DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before September 6, 2011. Address written comments to Statutory Import Programs Staff, Room 3720, U.S. Department of Commerce, Washington, DC 20230. Applications may be examined between 8:30 a.m. and 5 p.m. at the U.S. Department of Commerce in Room 3720.

Docket Number: 11-047. Applicant: Ohio State University, School of Earth Sciences, 275 Mendenhall Laboratory, 125 South Oval Mall, Columbus, OH 43210. Instrument: Electron Microscope. Manufacturer: FEI Company, Czech Republic. Intended Use: Several characteristics of the instrument which are required for the research include an automated mineralogy analyzer for analysis and interpretation of major and trace chemistry, mineral phase matching with rapidly-acquired energy dispersive x-ray data, the ability to have comprehensive offline image analysis and x-ray spectral analysis as well as variable vacuum modes to allow observation of uncoated nonconductive specimens. Justification for Duty-Free Entry: There are no instruments of the same general category manufactured in the United States. Application accepted by Commissioner of Customs: July 27, 2011.

Docket Number: 11-050. Applicant: Southwest Research Institute, 6220 Culebra Rd., San Antonio, TX 78239-5166. Instrument: Electron Microscope. Manufacturer: FEI Company, Czech Republic. Intended Use: The instrument will be used to study bones and other biological materials to characterize structural features responsible for reduced fracture strength in osteoporosis and studying the performance of bone scaffolds for enhancing re-growth of bone into damaged areas. This instrument has the ability to characterize biological samples at water vapor pressures up to 2,600 Pa, assuring that artifacts will not obscure the actual examination of the actual structure and composition, which is required for the research. The technical specifications for the SEMs manufactured in the United States by TESCAN listed at tescan.com indicated that their SEMs had a maximum vapor pressure of 150 Pa, which is well below the level at which moisture will evaporate from biological samples. Justification for Duty-Free Entry: There are no instruments of the same general category manufactured in the United States. Application accepted by Commissioner of Customs: July 27, 2011.

Docket Number: 11-052. Applicant: Southern University and A&M College, 4th Floor, J.S. Clark Building, Baton Rouge, LA 70813. Instrument: Electron Microscope. Manufacturer: JEOL, Japan. Intended Use: Among others, the research topics include the investigation of the self-healing of structural damage using shape memory polymer based composites, and the study of electronic based chemical sensors. The instrument will provide high-resolution capabilities. Justification for Duty-Free Entry: There are no instruments of the same general category manufactured in the United States. Application accepted by Commissioner of Customs: August 1, 2011.

Docket Number: 11-053. Applicant: University of Texas Health Science Center—Houston, 6431 Fannin, Houston, TX 77030. Instrument: Electron Microscope. Manufacturer: JEOL, Japan. Intended Use: The instrument will be used to examine immune-gold labeled biological specimens and capture high resolution digital images to determine whether proteins are spatial segregated on the plasma membrane of mammalian cells. The instrument must be capable of providing high-resolution and high-contrast images, a stage that is easy to move, a focus that does not change with changing magnification, and brightness that changes automatically with magnification. Justification for Duty-Free Entry: There are no instruments of the same general category manufactured in the United States. Application accepted by Commissioner of Customs: July 29, 2011.

Docket Number: 11-054. Applicant: Battelle Energy Alliance, Idaho National Laboratory, 2525 North Freemont Ave., Idaho Falls, ID 83415. Instrument: Electron Microscope. Manufacturer: FEI Company, Czech Republic. Intended Use: The instrument will be used to analyze nuclear fuels and materials to make determinations of and produce materials that have improved performance in advanced reactor systems. Current U.S. manufactured instruments do not reach the sensitivity level of this instrument. Justification for Duty-Free Entry: There are no instruments of the same general category manufactured in the United States. Application accepted by Commissioner of Customs: August 3, 2011.

Docket Number: 11-055. Applicant: University of Washington, 1959 NE Pacific St., Seattle, WA 98195. Instrument: Electron Microscope. Manufacturer: FEI Company, the Netherlands. Intended Use: The instrument will be used to study proteins, macromolecular complexes, viruses, and nanostructured materials to obtain structural information of biological specimens at the highest achievable resolution. Justification for Duty-Free Entry: There are no instruments of the same general category manufactured in the United States. Application accepted by Commissioner of Customs: August 3, 2011.

Dated: August 11, 2011.
Gregory W. Campbell,
Director, IA Subsidies Enforcement Office.

[FR Doc. 2011-21005 Filed 8-16-11; 8:45 am]

BILLING CODE 3510-DS-P